ENVIRONMENTAL PROTECTION AGENCY

[EPA-HQ-OPP-2013-0682; FRL-9402-6]

Notice of Receipt of Requests for Amendments To Delete Uses in Certain Pesticide Registrations

AGENCY: Environmental Protection Agency (EPA).

ACTION: Notice.

SUMMARY: In accordance with the Federal Insecticide, Fungicide, and Rodenticide Act (FIFRA), EPA is issuing a notice of receipt of request for amendments by registrants to delete uses in certain pesticide registrations. FIFRA provides that a registrant of a pesticide product may at any time request that any of its pesticide registrations be amended to delete one or more uses. FIFRA further provides that, before acting on the request, EPA must publish a notice of receipt of any request in the Federal Register.

DATES: The deletions are effective December 27, 2013, unless the Agency receives a written withdrawal request on or before December 27, 2013. The Agency will consider a written withdrawal request postmarked no later than December 27, 2013.

Users of these products who desire continued use on crops or sites being deleted should contact the applicable registrant on or before December 27, 2013.

ADDRESSES: Submit your withdrawal request, identified by docket identification (ID) number EPA-HQ-OPP-2013-0682, by one of the following methods:

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on visiting the docket, along with more information about dockets generally, is available at http://www.epa.gov/dockets.

FOR FURTHER INFORMATION CONTACT: Christopher Green, Information Technology and Resources Management Division, (7502P), Office of Pesticide Programs, Environmental Protection Agency, 1200 Pennsylvania Ave. NW., Washington, DC 20460-0001; telephone number: (703) 347-0367; email address: green.christopher@epa.gov.

SUPPLEMENTARY INFORMATION:

I. General Information

A. Does this action apply to me?

This action is directed to the public in general. Although this action may be of particular interest to persons who produce or use pesticides, the Agency has not attempted to describe all the specific entities that may be affected by this action.

B. How can I get copies of this document and other related information?

The docket for this action, identified by docket ID number EPA-HQ-OPP-2013-0682, is available either electronically through http://www.regulations.gov or in hard copy at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces receipt by the Agency of applications from registrants to delete uses in certain pesticide registrations. These registrations are listed in Table 1 of this unit by registration number, product name, active ingredient, and specific uses deleted:

Table 1—Requests for Amendments To Delete Uses in Certain Pesticide Registrations
EPA registration No. | Product name | Active ingredient | Delete from label
100-1347 | Concert II | Chlorothalonil & Propiconazole | Use on Dichondra Turf.
352-835 | Velista | Penthiopyrad | Use on Ornamental Plants.
1021-0791 | Pyrocide Aerosol Mix 6451 | MGK 264, Piperonyl butoxide & Pyrethrins (No Inert Use) | General Outdoor Use.
1021-1545 | Evercide Intermediate 2417 | MGK 264, Pyrethrins (No Inert Use) & Permethrin | Outdoor Use.
1021-1550 | Evercide Intermediate 2416 | Bioallethrin, MGK 264 & Permethrin | General Outdoor Use.
1021-1632 | Multicide Concentrate 2593 | MGK 264, Piperonyl butoxide, Phenothrin & Prallethrin | General Outdoor Use.
1021-1789 | Evercide Concentrate 2801 | MGK 264, Prallethrin & Permethrin | General Outdoor Use.
1021-1810 | Pyrocide Falcon 7452 | Pyriproxyfen, Esfenvalerate, MGK 264, Piperonyl butoxide & Pyrethrins (No Inert Use) | General Outdoor Use.
53883-201 | IMI 75 Insecticide in Water Soluble Packets | Imidacloprid | Turf and Ornamental Use.

Users of these products who desire continued use on crops or sites being deleted should contact the applicable registrant on or before December 27, 2013, because the registrants requested a waiver of the 180-day comment period, to discuss withdrawal of the application for amendment. This 30-day period will also permit interested members of the public to intercede with registrants prior to the Agency's approval of the deletion.

Table 2 of this unit includes the names and addresses of record for all registrants of the products listed in Table 1 of this unit, in sequence by EPA company number.

Table 2—Registrants Requesting Amendments To Delete Uses in Certain Pesticide Registrations
EPA company No. | Company name and address
100 | Syngenta Crop Protection, LLC, 410 Swing Rd., P.O. Box 18300, Greensboro, NC 27419-8300.
352 | E. I. Du Pont De Nemours & Company (S300/419), Manager, Registration & Regulatory Affairs, 1007 Market St., Wilmington, DE 19898-0001.
1021 | McLaughlin Gormley King Company, 8810 Tenth Ave. North, Minneapolis, MN 55427-4319.
53883 | Control Solutions, Inc., 5903 Genoa-Red Bluff Rd., Pasadena, TX 77507-1041.

III. What is the agency's authority for taking this action?

Section 6(f)(1) of FIFRA provides that a registrant of a pesticide product may at any time request that any of its pesticide registrations be amended to delete one or more uses. The FIFRA further provides that, before acting on the request, EPA must publish a notice of receipt of any such request in the Federal Register. Thereafter, the EPA Administrator may approve such a request.

IV. Procedures for Withdrawal of Request

Registrants who choose to withdraw a request for use deletion must submit the withdrawal in writing to Christopher Green using the methods in ADDRESSES. The Agency will consider written withdrawal requests postmarked no later than December 27, 2013.

V. Provisions for Disposition of Existing Stocks

The Agency has authorized the registrants to sell or distribute a product under the previously approved labeling for a period of 18 months after approval of the revision, unless other restrictions have been imposed, as in special review actions.

List of Subjects

Environmental protection, Pesticides and pests.

Dated: September 27, 2013.
Michael Hardy,
Acting Director, Information Technology and Resources Management Division, Office of Pesticide Programs.

[FR Doc. 2013-28230 Filed 11-26-13; 8:45 am]

BILLING CODE 6560-50-P